DEPARTMENT OF ENERGY

Environmental Management Site-Specific Advisory Board, Oak Ridge Reservation

AGENCY: Department of Energy.

ACTION: Notice of Open Meeting Correction.

On October 27, 2009, the Department of Energy published a notice of open meeting announcing a meeting of the Environmental Management Site-Specific Advisory Board, Oak Ridge Reservation to be held on November 18, 2009 (74 FR 55223). In that notice, the main meeting presentation was to be on the Mercury Remediation Strategy and Activities. Today's notice is announcing that the main meeting presentation will be on the History and Status of the White Oak Dams in Melton Valley.

Issued in Washington, DC, on October 29, 2009.
Rachel Samuel,
Deputy Committee Management Officer.

[FR Doc. E9-26453 Filed 11-2-09; 8:45 am]

BILLING CODE 6450-01-P